DEPARTMENT OF COMMERCE

National Oceanic and Atmospheric Administration

Proposed Information Collection; Comment Request; Rip Current Visualization Survey and Focus Groups

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 8, 2016.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Nicole Kurkowski, National Weather Service, ((301) 427-9104), nicole.kurkowski@noaa.gov.

SUPPLEMENTARY INFORMATION:

I. Abstract

This is a request for a new collection of information. The objective of the survey and focus groups is to collect information on the current use and knowledge of NOAA's National Weather Service (NWS) products and perceptions of various rip current products. The focus groups will ask participants to explain their responses. This information will help create better rip current products used by the National Weather Service (NWS) to protect lives and prevent injury from rip currents.

II. Method of Collection

The primary data collection vehicles will be an internet-based, public survey and face to face focus groups. The focus groups will target lifeguards and decision makers. Telephone and personal interviews may be employed to supplement and verify survey responses.

III. Data

OMB Control Number: 0648-xxxx.

Form Number(s): None.

Type of Review: Regular submission (request for a new information collection).

Affected Public: Members of the public.

Estimated Number of Respondents: 500 for the survey and 80 for the focus groups.

Estimated Time per Response: 30 minutes for the survey and 1.5 hours for the focus groups.

Estimated Total Annual Burden Hours: 250 hours for the survey and 120 hours for the focus groups.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 2, 2016.
Sarah Brabson,
NOAA PRA Clearance Officer.

[FR Doc. 2016-13368 Filed 6-6-16; 8:45 am]

BILLING CODE 3510-KE-P